ENVIRONMENTAL PROTECTION AGENCY

[EPA-HQ-OAR-2012-0401; FRL-9929-55-OAR]

Proposed Information Collection Request; Comment Request; Regulation of Fuels and Fuel Additives: RFS Pathways II, and Technical Amendments to the RFS Standards and E15 Misfueling Mitigation Requirements

AGENCY: Environmental Protection Agency (EPA).

ACTION: Notice.

SUMMARY: The Environmental Protection Agency (EPA) is planning to submit an information collection request (ICR), “Regulation of Fuels and Fuel Additives: RFS Pathways II, and Technical Amendments to the RFS Standards and E15 Misfueling Mitigation Requirement” (EPA ICR No. 2520.01., OMB Control No. 2060-NEW to the Office of Management and Budget (OMB) for review and approval in accordance with the Paperwork Reduction Act (44 U.S.C. 3501 et seq.). Before doing so, EPA is soliciting public comments on specific aspects of the proposed information collection as described below. This is a request for approval of a new collection. An Agency may not conduct or sponsor and a person is not required to respond to a collection of information unless it displays a currently valid OMB control number.

DATES: Comments must be submitted on or before August 24, 2015.

ADDRESSES: Submit your comments, referencing Docket ID No. EPA-HQ-OAR-2012-0401, online using www.regulations.gov (our preferred method), or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Geanetta Heard, Fuels Compliance Center, 6406J, Environmental Protection Agency, 1200 Pennsylvania Ave. NW., Washington, DC 20460; telephone number: 202-343-9017; fax number: 202-565-2085; email address: heard.geanetta@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: In the final rule, EPA finalized the renewable fuels standard (RFS) program regulations at 40 CFR part 80, subpart M. We believe these provisions will facilitate the introduction of new renewable fuels as well as improve implementation of the program. These provisions includes various changes related to biogas including changes to the revised compressed natural gas (CNG)/liquefied natural gas (LNG) pathway and amendments to various associated registration, recordkeeping, and reporting provisions. The final regulation includes a lifecycle greenhouse gas emissions analysis for renewable electricity, renewable diesel and naphtha produced from landfill biogas. Adding these new pathways will enhance the ability of the biofuels industry to supply advanced biofuels, including cellulosic biofuels, which greatly reduce the greenhouse gas emissions (GHG) compared to the petroleum-based fuels they replace. It also addresses “nameplate capacity” issues for certain production facilities that do not claim exemption from the 20 percent GHG reduction threshold. In the accompanying final rule for this ICR, EPA addressed issues related to crop residue and corn kernel fiber and finalized an approach to determining the volume of cellulosic Renewable Identification Numbers (RIN's) produced from various cellulosic feedstocks. We also included a lifecycle analysis of advanced butanol and discussed the potential to allow for commingling of compliant products at the retail facility level as long as the environmental performance of the fuels would not be detrimental. Several other amendments to the RFS2 program were included.

In the final rule, EPA also amended various changes to the E15 (gasoline containing up to 15 volume percent ethanol) mis-fueling mitigation regulations (MMR) at 40 CFR part 80, subpart N. Among the E15 changes finalized were technical corrections and amendments to sections dealing with labeling, E15 surveys, product transfer documents, and prohibited acts. Technical amendments and corrections for this regulations had no bearings on the industry estimates.

Lastly, EPA finalized changes to the survey requirements associated with the ultra-low sulfur diesel (ULSD) program. This change is not addressed here because there are fewer than nine respondents.

Form Numbers: 2

RFS1700-RFS2 Renewable Fuel Producers—Cellulosic Converted Fraction—5900-362

RFS1300-RFS2 Renewable Fuel Producers Using Crop Residue as a Feedstock Report—5900-262

Respondents/affected entities: Producers of renewable fuels, Producers of renewable electricity, Importers of renewable fuels, Feedstock producers from waste treatment plants, Feedstock producers from landfills, Parties who own RINS's.

Respondent's obligation to respond: Mandatory.

Estimated number of respondents: 60 (total).

Frequency of response: Quarterly, annually, on occasion.

Total estimated burden: 8,889 hours (per year). Burden is defined at 5 CFR 1320.03(b).

Total estimated cost: $1,081,415 (per year), includes $0 annualized capital or operation & maintenance costs.

Changes in Estimates EPA estimates yearly 60 respondents and 8,889 burden hours which will cost industry $1,081,415. This is a new collection with no industry cost for comparison.

Dated: June 15, 2015.
Byron Bunker,
Director, Compliance Division, Office of Transportation and Air Quality, Office of Air and Radiation.

[FR Doc. 2015-15467 Filed 6-22-15; 8:45 am]

BILLING CODE 6560-50-P